DEPARTMENT OF THE INTERIOR

Bureau of Land Management

[WY-040-1320-EL, WYW160394]

Notice of Availability (NOA) of a Draft Environmental Impact Statement (DEIS) for the Pit 14 Coal Lease-by-Application (LBA) and Federal Coal Notice of Hearing, Wyoming

AGENCY: Bureau of Land Management, Interior.

ACTION: Notice of availability.

SUMMARY: NOA of the DEIS for the Pit 14 Coal LBA, a maintenance lease for Federal coal in the decertified Green River-Hamms Fork Coal Production Region, Wyoming and Notice of Public Hearing.

DATES: The DEIS will be available for review and comment for 60 calendar days from the date the Environmental Protection Agency (EPA) publishes its NOA in the Federal Register. The Bureau of Land Management (BLM) can best use comments and resource information if they are submitted by, or before, close of business the day of the end of the comment and review period. If you are uncertain as to what constitutes acceptable comment format or when comments are due, please contact the Project Manager or the Rock Springs Field Office at the address below. The public hearing will be held at 2 p.m. MST, on May 10, 2006, at the BLM, Rock Springs Field Office, 280 Highway 191 North, Rock Springs, Wyoming, to solicit comments on the DEIS from the public on the proposed competitive sale of the Federal coal included in the Pit 14 LBA and on the fair market value and maximum economic recovery of the Federal coal included in the tract.

ADDRESSES: A copy of the DEIS was sent to affected Federal, State, and local government agencies and to interested parties. The document may also be available electronically on the following Web site: http://www.wy.blm.gov/nepa/nepadocs.htm. Copies of the DEIS will be available for public inspection at the following locations:

• Bureau of Land Management, Wyoming State Office, 5353 Yellowstone Road, Cheyenne, Wyoming 82003.

• Bureau of Land Management, Rock Springs Field Office, 280 Highway 191 North, Rock Springs, Wyoming 82901.

FOR FURTHER INFORMATION CONTACT: Teri Deakins, Project Manager, BLM Rock Springs Field Office, 280 Highway 191 North, Rock Springs, WY 82901. Requests for information may be sent electronically to: rock springs_wymail@blm.gov with “Attention: Pit 14 Coal Lease-by-Application DEIS Information Request” in the subject line. Ms. Deakins may also be reached at (307) 352-0211.

SUPPLEMENTARY INFORMATION: Black Butte Coal Company (BBCC) filed a lease application with BLM to access Federal coal reserves located adjacent to their existing Black Butte Mine in Sweetwater County, Wyoming. The LBA tract is located approximately 28 miles southeast of Rock Springs, Wyoming. The LBA tract is composed of the following public lands and minerals.

T. 17 N., R. 101 W., 6th PM, Wyoming

Sec. 2, Lots 3, 4, SW¼NW¼; Sec. 4, Lots 1, 2, S½NE¼, SE¼NW¼, NE¼SW¼, S½SW¼, SE¼; Sec. 10, NW¼, N½SW¼;

T. 18 N., R. 101 W., 6th PM, Wyoming

Sec. 34, E½, E½NW¼, SW¼.

Containing 1399.48 acres, more or less.

BBCC estimates approximately 34.6 million tons of in-place coal reserves are present in the Upper Cretaceous Almond Formation within the project area. The project area contains the LBA tract and privately held lands and minerals. BLM will evaluate the volume and average quality of the coal reserves in the LBA portion of the project area as part of the fair market value determination process.

The BLM published its Notice of Intent to prepare an EIS for the Pit 14 Coal Lease-by-Application (Federal Coal Lease Application WYW160394) in the Federal Register on January 7, 2005. Based upon issues and concerns identified during scoping and during the development of National Environmental Policy Act (NEPA) analysis, the Pit 14 Coal Lease-by-Application DEIS focuses on individual and cumulative impacts to air quality, biological and physical resources, transportation, and socio-economics factors. In compliance with Section 7(c), of the Endangered Species Act, as amended, the DEIS includes a discussion of endangered or threatened species which may be affected by the Proposed Action. Formal consultation with U.S. Fish and Wildlife Service was initiated for Colorado River fish species on November 10, 2005.

This DEIS assesses the effects of implementing the proposed action which is the leasing of the coal reserves in the LBA tract as a maintenance tract to the existing Black Butte Mine.

The Pit 14 Coal LBA DEIS analyzes two alternatives in detail:

1. Proposed Action. The alternative as proposed by BBCC analyses the impacts of leasing Federal coal and the impacts associated with surface mining.

2. No Action Alternative. This alternative would deny the coal lease as proposed.

Agency Preferred Alternative

BLM's preferred alternative is the Proposed Action. The Proposed Action is in conformance with the Green River Resource Management Plan.

The Black Butte Coal Mine started operations in the late 1970s and continues to operate today. Existing production is slowing because existing privately held and federally leased coal reserves are too deep to be economically recovered by conventional surface mining methods (draglines). As a result, additional mineable coal reserves are needed to meet production requirements of the company's customers including the Jim Bridger Power Plant to meet the growing regional demand for electricity.

How to Submit Comments

Comments must be submitted using one of the following methods:

1. Comments may be electronically mailed to rock springs_wymail@blm.gov with “Attention: Pit 14 Coal Lease-by-Application” in the subject line, and avoiding the use of special characters or any form of encryption. If you do not receive a confirmation from our system that your comment has been received, please contact Teri Deakins, Project Manager, Rock Springs Field Office, (307) 352-0211;

2. Written comments may be mailed directly or delivered to the BLM at: Project Manager, Pit 14 Coal LBA, Bureau of Land Management Rock Springs Field Office, 280 Highway 191 North, Rock Springs, WY 82901;

3. Comments may be sent via telefax to the BLM, Attn: Teri Deakins, at (307) 352-0328.

4. Comments may be given at the public hearing to be held at 2 p.m. MST, on May 10, 2006, at the BLM, Rock Springs Field Office, 280 Highway 191 North, Rock Springs, Wyoming.

To be given consideration by BLM, all DEIS comments must include the commenter's name and street address.

BLM's practice is to make all comments, including the names and street addresses of each respondent, available for public review at the BLM office listed above during business hours (7:45 a.m. to 4:30 p.m.), Monday through Friday, except for Federal holidays. Your comments may be published as part of the EIS process. Individual respondents may request confidentiality. If you wish to withhold your name or street address or both from public review or from disclosure under the Freedom of Information Act, you must state this prominently at the beginning of your written comments. Such requests will be honored to the extent allowed by law. BLM will not consider anonymous comments. All submissions from organizations or businesses will be made available for public inspection in their entirety.

Dated: January 13, 2006.
Robert A. Bennett,
State Director.

[FR Doc. 06-2599 Filed 3-23-06; 8:45 am]

BILLING CODE 4310-22-P